DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A)(I.C.) (Increased imports) and (a)(2)(B)(II.B) (No shift in production to a foreign country) have not been met.

TA-W-52,169; Allsteel, Inc., a div. of Hon Industries, Inc., Milan, TN

TA-W-52,039; Heraeus Electro-Nite Co., Philadelphia, PA

TA-W-52,066; SWR Sound Corp., Sun Valley, CA

TA-W-52,116; SPI Polyols, Inc., New Castle, DE

The workers firm does not produce an article as required for certification under section 222 of the Trade Act of 1974.

TA-W-52,270; LM Services LLC, Cumberland, MD

TA-W-52,006; America Online, Inc., Oklahoma City, OK

TA-W-52,124; New England Joint Board, UNITE, Willimantic, CT

The investigation revealed that criteria (a)(2)(A)(I.A) (no employment declines) have not been met.

TA-W-52,207; Fishing Vessel (F/V) Selah, Haines, AK

TA-W-52,261; Cummings Fisheries, Dillingham, AK

TA-W-52,283; Fishing Vessel (F/V) Peregrine's Catch, Haines, AK

The investigation revealed that criteria (a)(2)(A)(I.C) (increased imports) and (a)(2)(B) (II.C) (has shifted production to country not under the free trade agreement with U.S.) have not been met.

TA-W-52,216; Scope Molding, LLC, Almena, WI

The investigation revealed that criteria (2) has not been met. The workers firm (or subdivision) is not a supplier or downstream producer to trade-affected companies.

TA-W-51,889; Sommer Products Co., Bartonville, IL

Affirmative Determinations for Worker Adjustment Assistance

The following certifications have been issued; the date following the company name and location of each determination references the impact date for all workers of such determination.

The following certifications have been issued. The requirements of (a)(2)(A) (increased imports) of Section 222 have been met.

TA-W-51,928 & A; Joan Fabrics Corp., Newton Finishing Plant, Newton, NC and Weaving and Support Operation, Hickory, NC: June 2, 2002.

TA-W-51,964; American Glass Co. d/b/a L.E. Smith Glass Co., Mount Pleasant, PA: May 28, 2002.

TA-W-52,105; Johnson Hosiery Mills, Inc., Hickory, NC: June 19, 2002.

TA-W-52,151; Portland General Electric, Trojan Nuclear Plat, Rainier, OR: June 20, 2002.

TA-W-52,155; SFO Apparel, San Francisco, CA: June 13, 2002.

TA-W-52,190; Stearns, Inc., Grey Eagle Div., Grey Eagle, MN: June 24, 2002.

TA-W-51,526; Yofi Textile Printing Co., Passaic, NJ: February 26, 2002.

TA-W-51,986; Amyx Industries, Inc., a div. of Walsh and Simmons Seating, West Plains, MO: June 2, 2002.

TA-W-52,041; Trigen Biopower, Inc., St. Mary's, GA: June 10, 2002.

TA-W-52,074; Wellmade Industries, Inc., New York, NY: June 5, 2002.

TA-W-52,099; Sony Semiconductor Co. including leased workers from Manpower Professionals, San Antonio, TX: June 18, 2002.

The following certifications have been issued. The requirements of (a)(2)(B) (shift in production) of Section 222 have been met.

TA-W-51,937; Magnequench UG, Valparaiso, IN: May 30, 2002.TA-W-51,975 & A; Walstenburg Apparel Corp., Walstenburg, NC and Vanceboro, NC: May 30, 2002.

TA-W-52,025; Dynamco, Roper Pump Co., Mckinney, TX: June 11, 2002.

TA-W-52,130; The Sherwin-Williams Co., Chemical Coatings Div., Harrisburg, PA: June 23, 2002.

TA-W-52,140; North American Battery Co. including leased workers from Remedy Staffing, San Diego, CA: June 17, 2002.

TA-W-52,144; Homecrest Industries, Inc., Wadena, MN: June 25, 2002.

TA-W-52,244; Schneider Electric—Square D, Cedar Rapids, IA: July 2, 2002.

TA-W-52,214; ITT Industries, Searcy, AR: June 22, 2002.

TA-W-52,163; General Electric Co., Industrial Systems Div., Mebane, NC: June 26, 2002.

TA-W-52,150; Honeywell International, Sensing and Control Div., including leased workers of Manpower and Atech, Milpitas, CA: June 12, 2002.

TA-W-51,984; Martinrea Industries, Inc., Pilot Industries, Inc., Manchester Div., Manchester, MI: June 9, 2002.

TA-W-52,224; VF Imagewear, Inc., Brownsville, TX: July 2, 2002.

TA-W-52,247; Mackie Designs, Inc., including leased workers of Adecco, Express Personnel, Onsite and Remedy, Woodinville, WA: July 2, 2002.

The following certification has been issued. The requirement of upstream supplier to a trade certified primary firm has been met.

TA-W-52,282; Fishing Vessel (F/V) Njord, Elfin Cove, AK: July 8, 2002.

TA-W-52,205; Kimball Electronics, d/b/a Kimball Manufacturing, Boise, ID: June 26, 2002.

I hereby certify that the aforementioned determinations were issued during the month of July 2003. Copies of these determinations are available for inspection in Room C-5311, U.S. Department of Labor, 200 Constitution Avenue, NW., Washington, DC 20210, during normal business hours or will be mailed to persons who write to the above address.

Dated: July 21, 2003.
Timothy Sullivan,
Director, Division of Trade Adjustment Assistance.

[FR Doc. 03-19861 Filed 8-4-03; 8:45 am]

BILLING CODE 4510-30-P